FEDERAL TRADE COMMISSION

Agency Information Collection Activities; Submission for OMB Review; Comment Request

AGENCY: Federal Trade Commission (“Commission” or “FTC”).

ACTION: Notice; and request for public comment.

SUMMARY: The FTC intends to conduct a survey of consumers to advance its understanding of the prevalence of consumer fraud and to allow the FTC to better serve people who experience fraud. The survey is a follow-up to two previous surveys—the first was conducted in May and June of 2003 and the second in November and December of 2005. Before gathering this information, the FTC is seeking public comments on its proposed consumer research. The information collection requirements described below are being submitted to the Office of Management and Budget (“OMB”) for review, as required by the Paperwork Reduction Act (“PRA”).

DATES: Comments must be submitted on or before August 31, 2011.

ADDRESSES: Interested parties may file a comment online or on paper, by following the instructions in the “Request for Comment” part of the SUPPLEMENTARY INFORMATION section below. Write “Consumer Fraud Survey, Project No. P105502” on your comment, and file your comment online at: https://ftcpublic.commentworks.com/ftc/fraudsurvey2, by following the instructions on the web-based form. If you prefer to file your comment on paper, mail or deliver your comment to the following address: Federal Trade Commission, Office of the Secretary, Room H-113 (Annex J), 600 Pennsylvania Avenue, NW., Washington, DC 20580.

FOR FURTHER INFORMATION CONTACT: Requests for additional information should be addressed to Keith B. Anderson, Economist, Bureau of Economics, Federal Trade Commission, 600 Pennsylvania Avenue NW., Mail Stop NJ-4136, Washington, DC 20580. Telephone: (202) 326-3428.

SUPPLEMENTARY INFORMATION:

1. Background

On September 1, 2010, the FTC sought comment on the information collection requirements associated with the proposed Fraud Survey (75 FR 53697). No comments were received. Pursuant to the OMB regulations, 5 CFR part 1320, that implement the PRA, 44 U.S.C. 3501-3521, the Commission is providing this second opportunity for public comment. All comments should be filed as prescribed in the ADDRESSES section above, and must be received on or before August 31, 2011.

In 2003, OMB approved the FTC's request to conduct a survey on consumer fraud. The FTC completed the consumer research in June 2003 and issued its report, “Consumer Fraud in the United States: An FTC Survey,” in August 2004 (http://www.ftc.gov/reports/consumerfraud/040805confraudrpt.pdf).

In November 2005, OMB approved the Commission's request to reinstate this clearance. The second survey was conducted in November and December 2005. A report, “Consumer Fraud in the United States: The Second FTC Survey,” detailing the results of that survey, was issued in October 2007 (http://www.ftc.gov/opa/2007/10/fraud.pdf). The 2005 survey asked about consumers' experiences during the previous year with 14 specific and two more general types of fraud. Among frauds covered by the survey were whether the person had purchased a weight-loss product that did not work as promised, whether the person had fallen victim to an advance-fee loan scam, and whether the person had paid someone to remove derogatory information from his or her credit report. According to the survey results, 30.2 million adults in the United States—13.5 percent of all adults in the country—had been a victim during the previous year of one or more of the frauds included in the survey.

Among the 14 specific frauds included in the survey, the most frequently reported was the purchase of a weight-loss product that the seller represented would allow the user to easily lose a substantial amount of weight or lose the weight without diet or exercise. In fact, consumers who tried the product found that they only lost a little of the weight they had expected to lose or failed to lose any weight at all. This was experienced by 4.8 million adults—2.1 percent of the adult population.

2. Description of the Collection of Information and Proposed Use

The FTC proposes to conduct a telephone survey of 3,600 randomly-selected consumers nationwide age 18 and over—100 in a pretest and 3,500 in the main survey—in order to gather specific information on the incidence of consumer fraud in the general population. To obtain a more reliable picture of the experience of demographic groups that the earlier surveys found to be at an elevated risk of becoming victims of consumer fraud—including Hispanics, African Americans, and Native Americans—the survey may oversample members of these groups. All information will be collected on a voluntary basis, and information on the identities of individual participants will not be collected. Subject to obtaining OMB clearance, the FTC will work with a consumer research firm to identify consumers and conduct the survey. The results will assist the FTC in determining the incidence of consumer fraud in the general population and whether its type or frequency is changing. This information will inform the FTC about how best to combat consumer fraud.

The FTC intends to use a sample size similar to that used in the 2005 survey. Many of the questions will be similar to the 2005 survey so that the results from it can be used as a baseline for a time-series analysis.¹ The FTC may choose to conduct another follow-up survey in approximately five years.

¹ The survey instrument for the 2005 Consumer Fraud Survey is attached to the 2007 report (referenced above) as Appendix B.

3. Estimated Hours Burden

The FTC will pretest the survey on approximately 100 respondents to ensure that all questions are easily understood. This pretest will take approximately 17 minutes per person ² and 28 hours as a whole (100 respondents × 17 minutes each). Answering the consumer survey will require approximately 15 minutes per respondent and 875 hours as a whole (3,500 respondents × 15 minutes each). Thus, cumulative total burden hours will approximate 903 hours.

² Staff originally estimated 15 minutes to complete the pretest, the same time as that needed for the actual survey. The revised estimate takes further into account the presumed added time required to respond to questions unique to the pretest itself.

4. Estimated Cost Burden

The cost per respondent should be negligible. Participation is voluntary and will not require start-up, capital, or labor expenditures by respondents.

5. Request for Comment

You can file a comment online or on paper. For the Commission to consider your comment, we must receive it on or before August 31, 2011. Write “Consumer Fraud Survey, Project No. P105502” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment does not include any sensitive personal information, like anyone's Social Security number, date of birth, driver's license number or other state identification number or foreign country equivalent, passport number, financial account number, or credit or debit card number. You are also solely responsible for making sure that your comment does not include any sensitive health information, like medical records or other individually identifiable health information. In addition, do not include any “[t]rade secret or any commercial or financial information which is obtained from any person and which is privileged or confidential,” as provided in Section 6(f) of the FTC Act, 15 U.S.C. 46(f), and FTC Rule 4.10(a)(2), 16 CFR 4.10(a)(2). In particular, do not include competitively sensitive information such as costs, sales statistics, inventories, formulas, patterns, devices, manufacturing processes, or customer names.

If you want the Commission to give your comment confidential treatment, you must file it in paper form, with a request for confidential treatment, and you have to follow the procedure explained in FTC Rule 4.9(c), 16 CFR 4.9(c).³ Your comment will be kept confidential only if the FTC General Counsel, in his or her sole discretion, grants your request in accordance with the law and the public interest.

³ In particular, the written request for confidential treatment that accompanies the comment must include the factual and legal basis for the request, and must identify the specific portions of the comment to be withheld from the public record. See FTC Rule 4.9(c), 16 CFR 4.9(c).

Postal mail addressed to the Commission is subject to delay due to heightened security screening. As a result, we encourage you to submit your comments online. To make sure that the Commission considers your online comment, you must file it at https://ftcpublic.commentworks.com/ftc/fraudsurvey2, by following the instructions on the web-based form. If this Notice appears at http://www.regulations.gov/#!home, you also may file a comment through that Web site.

If you file your comment on paper, write “Consumer Fraud Survey, Project No. P105502” on your comment and on the envelope, and mail or deliver it to the following address: Federal Trade Commission, Office of the Secretary, Room H-113 (Annex J), 600 Pennsylvania Avenue, NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before August 31, 2011. You can find more information, including routine uses permitted by the Privacy Act, in the Commission's privacy policy, at http://www.ftc.gov/ftc/privacy.htm.

Comments on the information collection requirements subject to review under the PRA should additionally be submitted to OMB. If sent by U.S. mail, they should be addressed to Office of Information and Regulatory Affairs, Office of Management and Budget, Attention: Desk Officer for the Federal Trade Commission, New Executive Office Building, Docket Library, Room 10102, 725 17th Street, NW., Washington, DC 20503. Comments sent to OMB by U.S. postal mail, however, are subject to delays due to heightened security precautions. Thus, comments instead should be sent by facsimile to (202) 395-5167.

David C. Shonka,
Acting General Counsel.

[FR Doc. 2011-19367 Filed 7-29-11; 8:45 am]

BILLING CODE 6750-01-P